NATIONAL SCIENCE FOUNDATION

Sunshine Act Meetings

The National Science Board's ad hoc Committee on Elections hereby gives notice of the scheduling of a teleconference for the transaction of National Science Board business, pursuant to the National Science Foundation Act and the Government in the Sunshine Act.

TIME AND DATE: March 14, 2024, at 11 a.m. EDT.

PLACE: This meeting will be held by teleconference through the National Science Foundation.

STATUS: Closed.

MATTERS TO BE CONSIDERED: Chair's Opening Remarks about the agenda; Discussion of process to build a slate of Nominees for NSB Chair and Vice Chair positions for the 2022-2024 term; Assign tasks and determine next steps.

CONTACT PERSON FOR MORE INFORMATION: Point of contact for this meeting is: Andrea Rambow, arambow@nsf.gov, 703-292-7000. You may find meeting updates at https://www.nsf.gov/nsb/meetings/index.jsp#up.

Ann E. Bushmiller,
Senior Counsel to the National Science Board.

[FR Doc. 2024-04946 Filed 3-5-24; 11:15 am]

BILLING CODE 7555-01-P